DEPARTMENT OF COMMERCE

National Oceanic and Atmospheric Administration

[I.D. 092105B]

Endangered Species; File No. 1420; File No. 1543; File No. 1545; and File No. 1549

AGENCY: National Marine Fisheries Service (NMFS), National Oceanic and Atmospheric Administration (NOAA), Commerce.

ACTION: Notice; receipt of applications and modification request

SUMMARY: NMFS has received applications from the following entities for permits or permit modifications for scientific research on shortnose sturgeon (Acipenser brevirostrum):

Dr. Douglas Peterson, Warnell School of Forest Resources (Fisheries Division), University of Georgia, Athens, GA 30602 (Permit No. 1420);

Duke Power Company (Gene E. Vaughan, Principal Investigator), Catawba-Wateree Hydropower Relicensing Project, Mail Code EC 12Y, P.O. Box 1006, Charlotte, NC 28201 (File No. 1543);

North Carolina Zoological Park (John D. Groves, Principal Investigator), 4401 Zoo Parkway, Asheboro, NC 27205 (File No. 1545); and

Dr. Boyd Kynard, S.O. Conte Anadromous Fish Research Center (USGS-BRD), Box 796, One Migratory Way, Turners Falls, MA 01376 (File No. 1549).

DATES: Written, telefaxed, or e-mail comments must be received on or before December 12, 2005.

ADDRESSES: The applications and related documents are available for review upon written request or by appointment in the following offices:

All documents: Permits, Conservation and Education Division, Office of Protected Resources, NMFS, 1315 East-West Highway, Room 13705, Silver Spring, MD 20910; phone (301)713-2289; fax (301)427-2521;

Southeast Region, NMFS, 263 13th Avenue South, St. Petersburg, FL 33701; phone (727)824-5312; fax (727)824-5309; and

For File No. 1549: Northeast Region, NMFS, One Blackburn Drive, Gloucester, MA 01930-2298; phone (978)281-9328; fax (978)281-9394.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: either Permit No. 1420, File No. 1543, File No. 1545, File No. 1549.

FOR FURTHER INFORMATION CONTACT: Shane Guan, (301)713-2289.

SUPPLEMENTARY INFORMATION: The subject permits and modifications are requested under the authority of the Endangered Species Act of 1973, as amended (ESA; 16 U.S.C. 1531 et seq.) and the regulations governing the taking, importing, and exporting of endangered and threatened species (50 CFR 222-226).

File No. 1420: A notice of receipt of an application from Dr. Douglas Peterson to conduct scientific research on shortnose sturgeon was published on March 11, 2003 (68 FR 11533). On September 2, 2004, a scientific research permit was issued to Dr. Peterson to conduct scientific research on shortnose sturgeon (69 FR 55797). The permit authorizes Dr. Peterson to capture, measure, weigh, passive integrated transponder (PIT) and Carlin tag, tissue sample, and release up to 200 adult sturgeon annually from Altamaha River, Georgia. Additionally, Dr. Peterson is authorized to internally radio-sonic tag up to 30 sturgeon annually. Dr. Peterson now proposes to increase the annual capture of sturgeon from 200 to 1,000 due to a revised population assessment suggesting that the shortnose sturgeon population in the Altamaha River is probably at least ten times larger than previously thought. This permit expires on September 30, 2009.

File No. 1543: Duke Power Company proposes to conduct a study of shortnose sturgeon in the Wateree River, South Carolina, as part of the Federal Energy Regulatory Commission's 2008 relicensing process for the Company's Catawba-Wateree Hydropower Project. State and federal regulatory agencies have requested a shortnose sturgeon use-survey of the Wateree River. Three shortnose sturgeon would be captured annually via gill nets set every other week in the early spring along the Wateree River when water temperatures are 9 - 15 oC. Captured fish would be weighed, measured, scanned for PIT tags, and released. Untagged fish would be tagged by the South Carolina Department of Natural Resources. The permit is requested for a duration of 5 years, begining in February 2006.

File No. 1545: The North Carolina Zoologist Park has requested authorization to obtain and use ten captive-bred, non-releaseable shortnose sturgeon from the U.S. Fish and Wildlife Service's Warm Springs National Fish Hatchery for the purposes of educational display. The proposed project of displaying endangered cultured shortnose sturgeon responds directly to a recommendation from the NMFS recovery outline for this species. This sturgeon display would be used to increase public awareness of the shortnose sturgeon and its status. The proposed project would educate the public on shortnose sturgeon life history and the reasons for its declining numbers. The permit is requested for a duration of 5 years.

File No. 1549: Dr. Boyd Kynard of the S.O. Conte Anadromous Fish Research Center proposes to conduct scientific research to determine up and downstream migrations, habitat use, spawning periodicity, seasonal movements, and growth of shortnose sturgeon in the Connecticut River from Agawan to Montague, MA, and in the Merrimack River at Haverhill, MA. From the Connecticut River, a maximum of 500 adult and large juvenile shortnose sturgeon would be captured by gill nets, measured, PIT tagged, and released annually. A subset of 40 fish would also be radio tagged, and a subset of 6 of the aforementioned radio tagged fish would also receive temperature-depth tags. A maximum of 16 male and female adults would be captured annually with gill nets, tested for habitat use and movements in the lab, and subsequently released for 3 years. A maximum of 12 male and female adults would be captured with gill nets annually, lab tested for spawning, and released. A maximum of 40 adult males would be captured with gill nets, tested in flume studies to develop downstream passage, and released. A maximum of 100 young-of-the-year, 100 yearling, and 300 small juvenile of the same species would also be captured by gill nets, measured, PIT tagged, and released annually. A subset of 20 yearling and 20 small juveniles from the aforementioned 100 fish would also be radio tagged. A maximum of 400 egg-embryo-larva would be taken lethally for spawning evaluation annually. In the Merrimack River, a maximum of 40 adults annually would be captured with gill nets, PIT tagged, a subset of 10 radio tagged, and released. A maximum of 40 egg-embryo-larva would be lethally taken for spawning studies. In addition, Dr. Kynard proposes to take a total of 1000 fertilized eggs annually from each of the following rivers: Androscoggin River, ME; Kennebec River, ME; Merrimack River, MA; Hudson River, NY; Delaware River, DE; Potomac River, MD; and Santee-Cooper River, SC. The permit is requested for a duration of 5 years.

Dated: November 4, 2005.
Patrick Opay,
Acting Chief, Permits, Conservation and Education Division, Office of Protected Resources, National Marine Fisheries Service.

[FR Doc. 05-22472 Filed 11-9-05; 8:45 am]

BILLING CODE 3510-22-S